DEPARTMENT OF TRANSPORTATION

Federal Railroad Administration

[Docket Number FRA-2018-0101]

Notice of Application for Approval of Discontinuance or Modification of a Railroad Signal System

Under part 235 of Title 49 of the Code of Federal Regulations (CFR) and 49 U.S.C. 20502(a), this document provides the public notice that on November 16, 2018, the National Railroad Passenger Corporation (Amtrak) petitioned the Federal Railroad Administration (FRA) seeking approval to discontinue or modify a signal system. FRA assigned the petition Docket Number FRA-2018-0101.

Applicant: National Railroad Passenger Corporation, Mr. Nicholas J. Croce III, PE, Deputy Chief Engineer C&S, 2995 Market Street, Philadelphia, PA 19104.

Amtrak seeks approval to remove all automatic wayside signals on Tracks No. 1, No. 2, and No. 4, at automatic block points between interlockings Paoli, milepost (MP) 19.9 and Park MP 45.5 on Amtrak's Northeast Corridor, Mid-Atlantic Division, Harrisburg Line, Philadelphia to Harrisburg, PA. Automatic Block Signals (ABS) 218, 219, 254, 273, 274, 295, 296, 390, 391, 413, 414, 443, and 494, will be removed with the signal locations remaining in service as block points without wayside signals. These signals will be removed due to Amtrak upgrading the ABS Sections from NORAC Rule 251/261 territory, cab signals and fixed automatic block signals, to NORAC Rule 562 territory, cab signals, without fixed automatic block signals. In addition to the NORAC Rule 562 upgrades, Amtrak will install Clear Block Signals (C) to existing interlocking signals at Paoli (MP 19.9), Frazier (MP 23.9), Glen (MP 25.3), Downs (MP 32.1), Thorn (MP 35.0), Caln (MP 36.6), and Park (MP 45.5) interlockings through its capital improvement program. Until C signals are installed, movement through the block will be governed by NORAC Rules 550, 554 and 556. Amtrak's overall goal is to eliminate the maintenance and safety concerns associated with the ABS.

The existing automatic train control and Advanced Civil Speed Enforcement System (ACSES) will continue to enforce train speed and positive train stop. ACSES will enforce a positive stop at each interlocking and will also enforce a stop to a train with failed cab signal equipment unless the C signal is displayed allowing the failed train to enter the block.

The reason for removal of the signals in addition to upgrading the ABS Sections is to eliminate maintenance and operation of unnecessary hardware no longer needed, and to reduce delays to trains caused by failures of the signals.

The Southeastern Pennsylvania Transportation Authority and the Norfolk Southern Railway operate on portions of this line as tenants with trackage rights.

The project will begin immediately upon receiving permission for removal and will be completed within five years of receiving the authority to proceed. The project will begin with the section of track from Park to Thorn Interlocking and will progress eastward until completion.

A copy of the petition, as well as any written communications concerning the petition, is available for review online at www.regulations.gov and in person at the U.S. Department of Transportation's (DOT) Docket Operations Facility, 1200 New Jersey Avenue SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Avenue SE, W12-140, Washington, DC 20590.

• Hand Delivery: 1200 New Jersey Avenue SE, Room W12-140, Washington, DC 20590, between 9 a.m. and 5 p.m., Monday through Friday, except Federal Holidays.

Communications received by April 15, 2019 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
Robert C. Lauby,
Associate Administrator for Railroad Safety, Chief Safety Officer.

[FR Doc. 2019-03454 Filed 2-27-19; 8:45 am]

BILLING CODE 4910-06-P